DEPARTMENT OF TRANSPORTATION

Federal Aviation Administration

14 CFR Part 39

[Docket No. FAA-2019-0576; Product Identifier 2019-NM-049-AD]

RIN 2120-AA64

Airworthiness Directives; The Boeing Company Airplanes

AGENCY: Federal Aviation Administration (FAA), DOT.

ACTION: Proposed rule; withdrawal.

SUMMARY: The FAA is withdrawing a notice of proposed rulemaking (NPRM) that proposed to adopt a new airworthiness directive (AD) that would have applied to all The Boeing Company Model 747-400, 747-400F, 747-8F, and 747-8 series airplanes. The NPRM was prompted by reports of dual flight management computer (FMC) cold starts during a critical flight phase such as takeoff and approach. The NPRM would have required an inspection to determine if certain software is installed, installation of FMC operational program software (OPS) and a software configuration check, and applicable concurrent requirements. Since issuance of the NPRM, the FAA determined that the installation of new software, as proposed in the NPRM, does not resolve the unsafe condition identified in the NPRM. Accordingly, the NPRM is withdrawn.

DATES: The FAA is withdrawing the proposed rule published August 8, 2019 (84 FR 38887), as of October 20, 2020.

ADDRESSES:

Examining the AD Docket

You may examine the AD docket on the internet at https://www.regulations.gov by searching for and locating Docket No. FAA-2019-0576; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Nelson Sanchez, Aerospace Engineer, Systems and Equipment Section, FAA, Seattle ACO Branch, 2200 South 216th St., Des Moines, WA 98198; telephone and fax: 206-231-3543; email: nelson.sanchez@faa.gov.

SUPPLEMENTARY INFORMATION:

Discussion

The FAA issued an NPRM that proposed to amend 14 CFR part 39 by adding an AD that would apply to the specified products. The NPRM was published in the Federal Register on August 8, 2019 (84 FR 38887). The NPRM was prompted by reports of dual FMC cold starts during a critical flight phase such as takeoff and approach. The NPRM proposed to require an inspection to determine if certain software is installed, installation of FMC OPS and a software configuration check, and applicable concurrent requirements. The proposed actions were intended to address dual FMC cold starts, which can result in a loss of flight critical data from flight deck displays during a high workload phase of flight. This condition, if not addressed, could reduce the flightcrew's situational awareness, resulting in a loss of continued safe flight and landing.

Actions Since the NPRM Was Issued

Since issuance of the NPRM, the manufacturer discovered that the installation of new NG FMC BP 4.0 software, as proposed in the NPRM, does not resolve the unsafe condition identified in the NPRM, and the manufacturer is developing new software to resolve the unsafe condition. In light of these changes, the FAA is considering further rulemaking.

Withdrawal of the NPRM constitutes only such action and does not preclude the FAA from further rulemaking on this issue, nor does it commit the FAA to any course of action in the future.

FAA's Conclusions

Upon further consideration, the FAA has determined that the NPRM does not adequately address the identified unsafe condition. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2019-0576, which was published in the Federal Register on August 8, 2019 (84 FR 38887), is withdrawn.

Issued on October 7, 2020.
Lance T. Gant,
Director, Compliance & Airworthiness Division, Aircraft Certification Service.

[FR Doc. 2020-23166 Filed 10-19-20; 8:45 am]

BILLING CODE 4910-13-P